NUCLEAR REGULATORY COMMISSION

[Docket Nos. 50-334 and 50-412]

Firstenergy Nuclear Operating Company (FENOC), et al.; Notice of Consideration of Issuance of Amendment to Facility Operating License, Proposed No Significant Hazards Consideration Determination, and Opportunity for a Hearing

The U.S. Nuclear Regulatory Commission (the Commission) is considering issuance of an amendment to Facility Operating License Nos. DPR-66 and NPF-73 issued to FENOC, et al. (the licensee) for operation of the Beaver Valley Power Station, Unit Nos. 1 and 2 (BVPS-1 and 2), located in Shippingport, Pennsylvania.

The proposed amendment would revise the BVPS-1 and 2 Technical Specifications (TSs) to implement improvements endorsed in the Nuclear Regulatory Commission's (NRC's) Final Policy Statement on Technical Specification Improvements for Nuclear Power Reactors (58 FR 39132) which was published in the Federal Register on July 22, 1993. The major change proposed in this request involves the application of the TS screening criteria from the policy statement (codified in 10 CFR 50.36) to evaluate the content of the BVPS TS.

Consistent with the policy statement guidance, the TS that do not meet the criteria of 10 CFR 50.36 are proposed for relocation to documents controlled by BVPS. The proposed locations for the relocated TS requirements are the Licensing Requirements Manual (LRM) and Offsite Dose Calculation Manual (ODCM). The LRM and ODCM are referenced in the BVPS-1 and 2 Updated Final Safety Analysis Reports (UFSARs). Changes to documents referenced in the UFSAR are required to be made in accordance with 10 CFR 50.59. As such, changes to the relocated TS requirements will be in accordance with the provisions of 10 CFR 50.59 and prior NRC review and approval of changes will be requested if required by 10 CFR 50.59.

In order to support the relocation of certain TS, this license amendment request also proposes changes to retained TS and Bases. In addition, this request proposes the addition of a TS Bases control program consistent with the improved standard TS. These changes are administrative in nature and are made to support the relocation of TS and provide clarifications and enhancements that serve to make the existing TS more consistent with the content of the Improved Standard Technical Specifications (ISTS) for Westinghouse Plants contained in NUREG-1431.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the change involve a significant increase in the probability or consequences of an accident previously evaluated?

The proposed amendment does not involve a significant increase in the probability of an accident previously evaluated because no changes are being made to any event initiator. Nor is any analyzed accident scenario being revised. The initiating conditions and assumptions for accidents described in the UFSAR [Updated Final Safety Analysis Report] remain as previously analyzed.

The proposed amendment also does not involve a significant increase in the consequences of an accident previously evaluated. The amendment does not reduce the current operability requirements contained in the TS proposed for relocation. The proposed relocation of TS requirements only affects the level of regulatory control involved in future changes to the requirements. Additionally, the TS proposed for relocation do not meet the 10 CFR 50.36 criteria for retention in the TS.

The additional changes proposed to retained TS in the LAR [license amendment request], including the addition of the TS Bases Control Program, are either enhancements, clarifications, or administrative in nature, and are made to support the relocation of TS and to be more consistent with the ISTS and plant specific safety analyses. The changes to retained TS have no adverse effect on the safety analyses for design basis accidents described in the UFSAR. The initiating conditions and assumptions for accidents described in the UFSAR remain as previously analyzed.

Therefore, the proposed amendment does not involve a significant increase in the probability or consequences of an accident previously evaluated.

2. Does the changes create the possibility of a new or different kind of accident from any accident previously evaluated?

The proposed amendment does not involve any physical changes to the plant or the modes of plant operation defined in the TS. The proposed amendment does not involve the addition or modification of plant equipment nor does it alter the design or operation of any plant systems. No new accident scenarios, transient precursors, failure mechanisms, or limiting single failures are introduced as a result of these changes.

There are no changes in this amendment that would cause the malfunction of safety-related equipment assumed to be operable in accident analyses. No new mode of failure has been created and no new equipment performance requirements are imposed. The proposed amendment has no effect on any previously evaluated accident.

Therefore, the proposed amendment does not create the possibility of a new or different kind of accident from any accident previously evaluated.

3. Does the change involve a significant reduction in a margin of safety?

The margin of safety depends on the maintenance of specific operating parameters and systems within design requirements and safety analysis assumptions.

The proposed amendment does not involve revisions to any safety limits or safety system setting that would adversely impact plant safety. The proposed amendment does not alter the functional capabilities assumed in a safety analysis for any system, structure, or component important to the mitigation and control of design bases accident conditions within the facility. Nor does this amendment revise any parameters or operating restrictions that are assumptions of a design basis accident. In addition, the proposed amendment does not affect the ability of safety systems to ensure that the facility can be placed and maintained in a shutdown condition for extended periods of time.

The relocation of TS does not reduce the effectiveness of the requirements being relocated. Rather, the relocation of the TS results in a change in the regulatory control required for future changes made to the requirements. Additionally, the technical specifications proposed for relocation do not meet the 10 CFR 50.36 criteria for retention in the technical specifications.

The requirements contained within the affected TS will continue to be implemented by the appropriate plant procedures (e.g., operating and maintenance procedures) in the same manner as before. However, future changes to the relocated requirements will be controlled in accordance with 10 CFR 50.59 instead of a license amendment pursuant to 10 CFR 50.90. The provisions of 10 CFR 50.59 establish adequate controls over requirements removed from the TS and assure future changes to these requirements will be consistent with safe plant operation.

The additional changes proposed to retained TS in this LAR, including the addition of the TS Bases Control Program, are either enhancements, clarifications, or administrative in nature, and are made to support the relocation of TS and to be more consistent with the ISTS and plant specific safety analyses. These changes do not alter any operating parameters or design requirements assumed in a safety analysis for systems or components important to the mitigation and control of design bases accident conditions within the facility. Nor do these changes alter safety limits or safety system settings required for safe operation of the plant or the assumptions of any safety analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By July 20, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room, located at One White Flint North, 11555 Rockville Pike (first floor), Rockville, Maryland, or electronically on the Internet at the NRC Web site http://www.nrc.gov/NRC/CFR/index.html. If there are problems in accessing the document, contact the Public Document Room Reference staff at 1-800-397-4209, 301-415-4737, or by e-mail to pdr@nrc.gov. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Mary O'Reilly, Attorney, FirstEnergy Legal Department, FirstEnergy Corporation, 76 S. Main Street, Akron, OH 44308, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated March 28, 2001 (Agencywide Documents Access and Management Systems (ADAMS) Accession No. ML010950383), as supplemented on May 1, 2001 (ADAMS Accession No. ML011290073), which is available for public inspection at the Commission's Public Document Room, located at One White Flint North, 11555 Rockville Pike (first floor), Rockville, Maryland. Publicly available records will be accessible from the ADAMS Public Electronic Reading Room on the Internet at the NRC Web site, http://www.nrc.gov/NRC/ADAMS/index.html. If you do not have access to ADAMS or if there are problems in accessing the documents located in ADAMS, contact the NRC Public Document Room Reference staff at 1-800-397-4209, 301-415-4737 or by e-mail to pdr@nrc.gov.

Dated at Rockville, Maryland, this 14th day of June, 2001.
For the Nuclear Regulatory Commission.
Lawrence J. Burkhart,
Project Manager, Section 1, Project Directorate I, Division of Licensing Project Management, Office of Nuclear Reactor Regulation.

[FR Doc. 01-15474 Filed 6-19-01; 8:45 am]

BILLING CODE 7590-01-P